DEPARTMENT OF HEALTH AND HUMAN SERVICES

National Institutes of Health

Proposed Collection; Comment Request; the NIH-American Association for Retired Persons (AARP) Interactive Comprehensive Lifestyle Interview by Computer Study (iCLIC) (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

PROPOSED COLLECTION: Title: NIH-American Association for Retired Persons (AARP) interactive Comprehensive Lifestyle Interview by Computer Study (iCLIC). Type of Information Collection Request: Extension. Need and Use of Information Collection: The Nutritional Epidemiology Branch of the Division of Cancer Epidemiology and Genetics of the National Cancer Institute has planned this study to evaluate the feasibility of using these three new computerized questionnaires as well as the Diet and Health Questionnaire (DHQ), a well-established food frequency questionnaire in a population of early-to-late-middle-aged men and women. Participants will be asked to complete computerized questionnaires over a 90 day period, with some questionnaires in a series being completed twice. This evaluation study comprises the necessary performance and feasibility tests for the new computerized questionnaires, which will provide an opportunity to assess the possibility of administering computerized questionnaires in future large prospective cohort studies. The computerized questionnaires will support the ongoing examination between cancer and other health outcomes with nutritional, physical activity, and lifestyle exposures. The computerized questionnaires adhere to The Public Health Service Act, Section 412 (42 U.S.C. 285a-1) and Section 413 (42 U.S.C. 285a-2), which authorizes the Division of Cancer Epidemiology and Genetics of the National Cancer Institute (NCI) to establish and support programs for the detection, diagnosis, prevention and treatment of cancer; and to collect, identify, analyze and disseminate information on cancer research, diagnosis, prevention and treatment. Frequency of Response: Either 1 or 2 times. Affected Public: Individuals. Type of Respondents: U.S. adults (aged 50 and over). The annual reporting burden is displayed in the table below. The estimated total annualized burden hours being requested is 6886. The annualized cost to respondents is estimated at $121,743. There are no Capital Costs, Operating Costs, and/or Maintenance Costs to report.

Table 1—Estimates of Annual Burden Hours
Instrument(s) tested | Frequency of response | Average time per response (minutes/hour) | Number of respondents | Annual hour burden
Read Invitation (Attachments 3) | 1.00 | 1/60 (0.017) | 16,667.00 | 278
Pre-Enrollment (Attachment 6) | 1.00 | 10/60 (0.167) | 2,312.00 | 385
Enrollment Process (Attachment 7) | 1.00 | 5/60 (0.083) | 2,288.00 | 191
ASA24 (Attachments 4-1) | 2.00 | 30/60 (0.500) | 1,944.00 | 1,944
ACT-24 (Attachments 4-2) | 2.00 | 15/60 (0.250) | 1,944.00 | 972
LHQ (Attachments 4-3) | 1.00 | 20/60 (0.333) | 1,944.00 | 648
DHQ (Attachments 4-4) | 1.00 | 45/60 (0.750) | 1,944.00 | 1,458
Web Re-entry (Attachment 8) | 6.00 | 5/60 (0.083) | 1,944.00 | 972
Evaluation Survey (Attachment 9) | 1.00 | 1/60 (0.017) | 2,288.00 | 38
Totals |  |  | 33,275.00 | 6,886

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Arthur Schatzkin, M.D., Dr.P.H, Chief, Nutritional Epidemiology Branch, Division of Cancer Epidemiology and Genetics, National Cancer Institute, NIH, DHHS, Executive Plaza South, Room 3040, 6120 Executive Blvd., EPS-MSC 7242, Bethesda, MD 20892-7335 or call non-toll-free number 301-594-2931 or e-mail your request, including your address to: schatzka@mail.nih.gov.

Comments Due Date: Comments regarding this information collection are best assured of having their full effect if received within 60 days of the date of this publication.

Dated: October 12, 2010.
Vivian Horovitch-Kelley,
NCI Project Clearance Liaison, National Institutes of Health.

[FR Doc. 2010-26187 Filed 10-15-10; 8:45 am]

BILLING CODE 4140-01-P